DEPARTMENT OF THE INTERIOR

National Park Service

[NPS-WASO-NAGPRA-NPS0039560; PPWOCRADN0-PCU00RP14.R50000]

Notice of Inventory Completion: School District of Philadelphia, Philadelphia, PA

AGENCY: National Park Service, Interior.

ACTION: Notice.

SUMMARY: In accordance with the Native American Graves Protection and Repatriation Act (NAGPRA), the School District of Philadelphia has completed an inventory of human remains and has determined that there is no lineal descendant and no Indian Tribe or Native Hawaiian organization with cultural affiliation.

DATES: Upon request, repatriation of the human remains in this notice may occur on or after April 18, 2025.

ADDRESSES: Hannah Girer-Rosenkrantz, Esq., Deputy General Counsel, Compliance & Diverse Initiatives, The School District of Philadelphia, Office of General Counsel, 440 North Broad Street, Suite 313, Philadelphia, PA 19130, telephone (215) 400-6019, email hgirerrosenkrantz@philasd.org.

SUPPLEMENTARY INFORMATION: This notice is published as part of the National Park Service's administrative responsibilities under NAGPRA. The determinations in this notice are the sole responsibility of the School District of Philadelphia, and additional information on the determinations in this notice, including the results of consultation, can be found in its inventory or related records. The National Park Service is not responsible for the determinations in this notice.

Abstract of Information Available

Human remains representing, at least, one individual have been identified. No associated funerary objects are present. In June of 2021 a staff member of the Philadelphia Central High School (School District of Philadelphia) was cleaning out a classroom and closet. In the closet there was a box which was brought down and opened. Upon opening, the staff member identified the human cranium and immediately notified the president of the high school. The president then notified the legal office for the Philadelphia School District. The legal team of the School District reached out to Temple University Department of Anthropology where they conducted initial identification on this individual, however they could not continue with the consultation. Dr. Gregory D. Lattanzi, was brought onto the project to help with the NAGPRA repatriation process. Dr. Lattanzi has been in talks with National NAGPRA in Washington DC on the consultation and repatriation process.

Consultation

Invitations to consult were sent to the Apache Tribe of Oklahoma; Chemehuevi Indian Tribe of the Chemehuevi Reservation, California; Cheyenne and Arapaho Tribes, Oklahoma; Cheyenne River Sioux Tribe of the Cheyenne River Reservation, South Dakota; Cocopah Tribe of Arizona; Colorado River Indian Tribes of the Colorado River Indian Reservation, Arizona and California; Comanche Nation, Oklahoma; Confederated Salish and Kootenai Tribes of the Flathead Reservation Crow Creek Sioux Tribe of the Crow Creek Reservation, South Dakota; Crow Tribe of Montana; Eastern Shoshone Tribe of the Wind River Reservation, Wyoming; Fort Mojave Indian Tribe of Arizona, California & Nevada; Fort Sill Apache Tribe of Oklahoma; Hopi Tribe of Arizona; Jicarilla Apache Nation, New Mexico; Kiowa Indian Tribe of Oklahoma; Mescalero Apache Tribe of the Mescalero Reservation, New Mexico; Navajo Nation, Arizona, New Mexico, & Utah; Northern Arapaho Tribe of the Wind River Reservation, Wyoming; Northern Cheyenne Tribe of the Northern Cheyenne Indian Reservation, Montana; Oglala Sioux Tribe; Ohkay Owingeh, New Mexico; Paiute Indian Tribe of Utah (Cedar Band of Paiutes, Kanosh Band of Paiutes, Koosharem Band of Paiutes, Indian Peaks Band of Paiutes, and Shivwits Band of Paiutes); Pawnee Nation of Oklahoma; Pueblo of Acoma, New Mexico; Pueblo de Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Quechan Tribe of the Fort Yuma Indian Reservation, California & Arizona; Rosebud Sioux Tribe of the Rosebud Indian Reservation, South Dakota; San Juan Southern Paiute Tribe of Arizona; Santo Domingo Pueblo; Shoshone-Bannock Tribes of the Fort Hall Reservation; Southern Ute Indian Tribe of the Southern Ute Reservation, Colorado; Standing Rock Sioux Tribe of North & South Dakota; The Osage Nation; Three Affiliated Tribes of the Fort Berthold Reservation, North Dakota; Ute Indian Tribe of the Uintah & Ouray Reservation, Utah; Ute Mountain Ute Tribe; Wichita and Affiliated Tribes (Wichita, Keechi, Waco, & Tawakonie), Oklahoma; Ysleta del Sur Pueblo; and the Zuni Tribe of the Zuni Reservation, New Mexico.

Cultural Affiliation

The following types of information about the cultural affiliation of the human remains in this notice are available: anthropological, archaeological, historical, other relevant information, including historical label affixed to human remains. The information, including the results of consultation, identified:

1. The Colorado River Tribe as an earlier group connected to the human remains.

2. The Colorado River Tribe as an Indian Tribe or Native Hawaiian organization connected to the human remains.

3. No relationship of shared group identity between the earlier group and the Indian Tribe or Native Hawaiian organization that can be reasonably traced through time.

Determinations

The School District of Philadelphia has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after April 18, 2025. If competing requests for repatriation are received, the School District of Philadelphia must determine the most appropriate requestor prior to repatriation. Requests for joint repatriation of the human remains are considered a single request and not competing requests. The School District of Philadelphia is responsible for sending a copy of this notice to any consulting lineal descendant, Indian Tribe, or Native Hawaiian organization.

Authority: Native American Graves Protection and Repatriation Act, 25 U.S.C. 3003, and the implementing regulations, 43 CFR 10.10.

Dated: February 19, 2025.
Melanie O'Brien,
Manager, National NAGPRA Program.

[FR Doc. 2025-04610 Filed 3-18-25; 8:45 am]

BILLING CODE 4312-52-P